NATIONAL SCIENCE FOUNDATION

Notice of Record of Decision

AGENCY: National Science Foundation.

ACTION: Notice of Record of Decision.

FOR FURTHER INFORMATION CONTACT: For further information regarding the ROD contact: Holly Smith, National Science Foundation, 4201 Wilson Blvd., Suite 725, Arlington, VA 22230; telephone: (703) 292-8583; email: nepacomments@nsf.gov.

SUMMARY: On June 12, 2012, the National Science Foundation (NSF) signed a Record of Decision (ROD) regarding the Final Programmatic Environmental Impact Statement/Overseas Environmental Impact Statement (PEIS/OEIS) (hereafter Final PEIS) for Marine Seismic Research Funded by NSF or Conducted by the U.S. Geological Survey (USGS). The Final PEIS assesses the potential impacts on the human and natural environment as a result of marine seismic surveys conducted during marine geophysical research funded by NSF or conducted by the USGS. The Proposed Action is for academic and U.S. government scientists in the U.S., and possible international collaborators, to conduct marine seismic research using a variety of acoustic sources from research vessels operated by U.S. academic institutions and government agencies. The purpose of the Proposed Action is to fund the investigation of the geology and geophysics of the seafloor by collecting seismic reflection and refraction data that reveal the structure and stratigraphy of the crust and/or overlying sediment below the world's oceans. NSF has a continuing need to fund seismic surveys that enable scientists to collect data essential to understanding complex Earth processes beneath the ocean floor.

Prior to issuance of the ROD, NSF prepared the Final PEIS as the lead federal agency with support from the cooperating agencies, USGS and the National Marine Fisheries Service (NMFS) of the National Oceanic and Atmospheric Administration (NOAA). The Final PEIS was prepared in compliance with the National Environmental Policy Act (NEPA) (42 U.S.C. 4321 et seq.) and made available to the public in June 2011. Two action alternatives (Alternative A and Alternative B) and the No-Action Alternative were assessed. Alternative B, the preferred alternative, was selected in the ROD. The USGS will prepare and publish a separate ROD for the Final PEIS.

The NSF ROD is available on the Internet at: http://www.nsf.gov/geo/oce/envcomp/ in Adobe® portable document format (pdf).

Dated: June 12, 2012.
Suzanne H. Plimpton,
Reports Clearance Officer, National Science Foundation.

[FR Doc. 2012-14661 Filed 6-14-12; 8:45 am]

BILLING CODE 7555-01-P